DEPARTMENT OF HEALTH AND HUMAN SERVICES

Health Resources and Services Administration

Advisory Committee on Training in Primary Care Medicine and Dentistry; Notice of Meeting

In accordance with section 10(a)(2) of the Federal Advisory Committee Act (Pub. L. 92-463), notice is hereby given of the following meeting:

Name: Advisory Committee on Training in Primary Care, Medicine and Dentistry .

Dates and Times: November 7, 2011, 8:30 a.m.-4:30 p.m.; November 8, 2011, 8:30 a.m.-4:30 p.m.

Place: Georgetown University Hotel & Conference Center, 3800 Reservoir Road, NW., Washington, DC 20057.

Status: The meeting will be open to the public.

Purpose: The Advisory Committee on Training in Primary Care Medicine and Dentistry (“Advisory Committee”) provides advice and recommendations to the Secretary of the U.S. Department of Health and Human Services (HHS), the Senate Committee on Health, Education, Labor and Pensions, and the House of Representatives Committee on Energy and Commerce. on policy and program development concerning certain medicine, general pediatrics, general dentistry, pediatric dentistry, and physician assistant programs. The Advisory Committee is authorized by section 749 of the Public Health Service Act (PHS Act), as amended by the Affordable Care Act.

At this meeting there will be a number of speakers who will address issues relating to the topic of the Advisory Committee's tenth report: inter-professional education of primary care providers. Some meeting time will be devoted to developing recommendations and an outline for the report. There also will be a discussion of the Committee's new legislative authorities on performance measures and longitudinal evaluation, added by the Affordable Care Act. Reports are submitted to the Secretary of the Department of Health and Human Services; the Committee on Health, Education, Labor and Pensions of the Senate; and the Committee on Energy and Commerce of the House of Representatives.

Agenda: The meeting on Monday, November 7, will begin with opening comments from the Division of Medicine and Dentistry within the Health Resources and Services Administration's Bureau of Health Professions (BHPr). Speakers from the disciplines of medicine, dentistry, nursing, and physician assistants will address critical features of the inter-professional education of primary care providers. At the end of the morning session, they will form a panel and respond to questions from the membership. The Affordable Care Act added authorization for the Committee to develop performance measures and methods of longitudinal evaluation for certain Title VII programs; the afternoon session will be devoted, to this topic.

The meeting on November 8, 2011, will provide time for members to work on the Advisory Committee's tenth report on inter-professional education. In both plenary session and in small groups, the Advisory Committee will begin drafting report recommendations and establish an outline for the report. It will determine next steps in the report preparation process and plan for the next Advisory Committee meeting. An opportunity will be provided for public comment at the end of each day.

For Further Information Contact: Anyone interested in obtaining a roster of members or other relevant information should write or contact Jerilyn K. Glass, M.D., PhD, Division of Medicine and Dentistry, Bureau of Health Professions, Health Resources and Services Administration, Room 9A-27, Parklawn Building, 5600 Fishers Lane, Rockville, Maryland 20857; telephone (301) 443-7271. The web address for information on the Advisory Committee is http://www.hrsa.gov/advisorycommittees/bhpradvisory/actpcmd/index.html.

The Advisory Committee will join the three other advisory committees in the Bureau of Health Professions for the fourth BHPr All Advisory Committee Meeting on Wednesday, November 9, 2011. Please refer to the Federal Register notice for the BHPr All Advisory Committee Meeting for additional details.

Dated: October 13, 2011.
Reva Harris,
Acting Director, Division of Policy and Information Coordination.

[FR Doc. 2011-27027 Filed 10-18-11; 8:45 am]

BILLING CODE 4165-15-P